ENVIRONMENTAL PROTECTION AGENCY

[FRL-7257-8]

Privacy Act of 1974: System of Records, Creation of a New Privacy Act System of Records

AGENCY: Environmental Protection Agency (EPA).

ACTION: Notice of establishment of a new system of records.

SUMMARY: Pursuant to the provisions of the Privacy Act of 1974 (5 U.S.C. 552a), the Office of the Inspector General (OIG) is giving notice that it proposes to establish a new system of records, AutoAudit. This system of records is an automated information tracking and storage system employed in connection with OIG audits, consulting services, and evaluations commenced on or after April 8, 2002.

EFFECTIVE DATES: The proposed amendments will be effective without further notice on September 23, 2002 unless comments received require a contrary determination.

ADDRESSES: Send written comments to Gary Johnson, Acting Assistant Inspector General for Mission Systems, Office of Inspector General (2441), 1200 Pennsylvania Ave., Washington, DC 20460.

FOR FURTHER INFORMATION CONTACT: Gary Johnson, Acting Assistant Inspector General for Mission Systems, on (202 566-0848).

SUPPLEMENTARY INFORMATION: The OIG, pursuant to the Privacy Act of 1974, currently maintains four systems of records: (1) Investigative Files of the Office of Inspector General (EPA-40) ; (2) Personnel Security Files of the Office of Inspector General (EPA-41); (3) Inspector General's Operation and Reporting (IGOR) System Audit, Assignment, and Timesheet Files (EPA-42); and (4) Hotline Files of the Office of Inspector General (EPA-30). The notice for the first three systems of records was published on October 1, 2001 (66 FR 49947). The notice for the Hotline system of records was published on February 22, 2002 (67 FR 8246).

Section 552a(e)(4) and (11) of Title 5, United States Code, provides that the public be afforded a 30-day period in which to comment on this addition to OIG's existing record systems. Additionally, a copy of this notice has been submitted to the Committee on Government Reform of the House of Representatives, the Committee on Governmental Affairs of the Senate, and the Office of Management and Budget, pursuant to 5 U.S.C. 552a(r).

AutoAudit, OIG's new automated information tracking and storage system, is an electronic database which organizes and contains assignment work papers. The software cross-references, indexes, and tracks work papers in a centralized, paper-less environment. Records maintained in AutoAudit primarily will be accessed by assignment number. In addition, records may be accessed by reference to any information entered into such system, including name, alias, social security number, address, etc.

EPA-50

System Name:

OIG AutoAudit—EPA/OIG.

Security Classification:

None.

System Location:

National Technology Service Division, Office of Technology Operations and Planning, U.S. Environmental Protection Agency; 79 Alexander Drive; Building 4201, MD-34; Research Triangle Park, North Carolina 27711.

Categories of Individuals Covered by the System:

Individuals covered by the system include the assigned OIG auditor or evaluator, the audit or evaluation requestor, or the interviewee. (If Federal employees, this information will include their name, title, EPA office, EPA organization mail code, General Schedule occupation series and grade, geographic location, and type of employee (e.g., EPA employee or EPA OIG employee).)

Categories of Records in the System:

Records consist of materials compiled and/or generated in connection with audits, evaluations, and other non-audit services performed by OIG staff. These materials include information regarding the planning, conduct, and resolution of audits and evaluations of EPA programs and participants in those programs, information requests, responses to such requests, reports of findings, etc.

Authority for Maintenance of the System:

Inspector General Act of 1978, as amended, 5 U.S.C. app. 3.

Purpose(s):

The records contained in the systems are used by the OIG in furtherance of the responsibilities of the Inspector General under the Inspector General Act of 1978, as amended, to conduct and supervise audits and other reviews relating to programs and operations of the EPA; to promote economy, efficiency, and effectiveness in the administration of such programs and operations; and to prevent and detect fraud and abuse in such programs and operations. The records, especially work papers, are used to generate audit and other reports. The system will automate the work papers including organization, retrieval, and indexing.

Routine Uses of Records Maintained in the System, Including Categories of Users and the Purposes of Such Uses: EPA's general routine uses A through K apply to this system. See 66 FR 49947-49948 for a list of EPA's general routine uses. In addition, EPA OIG's 13 specific routine uses for its Inspector General's Operating and Reporting System Investigative Files apply to this system. See 66 FR 49948-49949.

Policies and Practices for Storing, Retrieving Accessing, Retaining, and Disposing of Records in the System

Storage:

Records are stored electronically in office automation equipment and manually in file jackets.

Retrievability:

Records primarily will be retrieved by assignment number. Records may also be retrieved by audit report number; name of the assigned OIG auditor or evaluator; or the name of the audit or evaluation requestor, interviewee, or subject matter of the audit.

Safeguards:

Computer records are maintained in a secure, password protected computer system. All records are maintained in secure areas or buildings with physical access and environmental controls. Direct access to the electronic database is limited to authorized employees of the OIG.

Retention and Disposal:

Records are retained and disposed of in accordance with EPA Records Control Schedule 700, Inspector General Records, approved by the National Archives and Records Administration.

System Manager(s) and Address:

Assistant Inspector General for Audits, Office of Inspector General (2421), Environmental Protection Agency, 1200 Pennsylvania Avenue, NW., Washington, DC 20460.

Notification Procedures:

The System Manager will accept inquiries from individuals seeking notification of whether the system contains records pertaining to them.

Record Access Procedures:

Requests for access should be made in writing to the System Manager in accordance with EPA's regulations at 40 CFR part 16. Requesters will be required to provide adequate identification, such as a driver's license, employee identification card, or other identifying document. Additional identification procedures may be required in some instances.

Contesting Record Procedures:

Requests for correction or amendment must identify the record to be changed and the corrective action sought. Complete EPA Privacy Act procedures are set out in 40 CFR part 16.

Record Source Categories:

The OIG collects information from a wide variety of sources, including from EPA, other Federal agencies, the General Accounting Office (GAO), law enforcement agencies, program participants, subject individuals, complainants, witnesses and other non-governmental sources.

Systems Exempt From Certain Provisions of the Act:

None.

Dated: July 5, 2002.
Kim Nelson,
Assistant Administrator and Chief Information Officer.

[FR Doc. 02-20452 Filed 8-12-02; 8:45 am]

BILLING CODE 6560-50-P